DEPARTMENT OF COMMERCE

Submission for OMB Review; Comment Request

The Department of Commerce will submit to the Office of Management and Budget (OMB) for clearance the following proposal for collection of information under the provisions of the Paperwork Reduction Act.

Agency: National Institute of Standards and Technology (NIST).

Title: NIST Generic Request for Customer Service-Related Data Collections.

OMB Control Number: 0693-0031.

Form Number(s): None.

Type of Request: Revision of an approved request.

Number of Respondents: 120,000.

Average Hours per Response: Less than 2 minutes for a response card; 2 hours for focus group participation. The average estimated response time is expected to be 10 minutes.

Burden Hours: 15,000.

Needs and Uses: NIST conducts surveys, focus groups, and other customer satisfaction/service data collections. The collected information is needed and will be used to determine the kind and the quality of products, services, and information our key customers want and expect, as well as their satisfaction with and awareness or existing products, services, and information.

Affected Public: Business or other for-profit organizations, individuals or households, not-for-profit institutions.

Frequency: On occasion.

Respondent's Obligation: Voluntary, providing the requested information is necessary to obtain accurate information regarding customer satisfaction with NIST products, services and information.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-09536 Filed 5-3-18; 8:45 am]

BILLING CODE 3510-13-P